DEPARTMENT OF ENERGY

Federal Energy Regulatory Commission

[Project No. 1267-089]

Greenwood County, SC; Notice of Application for Amendment of License and Soliciting Comments, Motions To Intervene, and Protests

March 23, 2010.

Take notice that the following hydroelectric application has been filed with the Commission and is available for public inspection:

a. Application Type: Amendment of License.

b. Project No.: 1267-089.

c. Date Filed: January 26, 2010.

d. Applicant: Greenwood County, South Carolina.

e. Name of Project: Buzzards Roost Hydroelectric Project.

f. Location: On the Saluda River, in Greenwood, Laurens, and Newberry Counties, South Carolina.

g. Filed Pursuant to: Federal Power Act, 16 U.S.C. 791(a)-825(r).

h. Applicant Contact: Mr. Charles M. Watson Jr., County Attorney, County of Greenwood, 600 Monument St., Suite 102, Greenwood, SC 29646, (864) 942-3140.

i. FERC Contact: Christopher Chaney, (202) 502-6778, christopher.chaney@ferc.gov.

j. Deadline for filing comments, motions to intervene, and protests: April 21, 2010.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Application: The applicant seeks approval to amend Article 407 of its project license to revise the schedule for management of lake levels (rule curve). Under the licensed rule curve, the reservoir level is maintained at an elevation of 439 feet mean sea level (msl) between April 15 and August 31 of each year. Beginning on September 1, the reservoir level is then reduced until it reaches 437 feet msl by October 1. The level is maintained at 437 feet msl until January 1, and then is further reduced to 434.5 feet msl by February 1. At that time, the reservoir level starts increasing until it reaches 439 feet msl, and the annual cycle is repeated.

Now the licensee proposes to maintain the reservoir level at 439 feet msl from April 15 until November 1. Between November 1 and December 1 the reservoir level would gradually descend to 437 feet msl, then continue descending to 434.5 feet msl between December 1 and January 15, and be maintained at 434.5 feet msl until January 31. Between February 1 and April 15, the reservoir level would gradually increase from 434.5 feet msl to 439 feet msl. In addition, the reservoir levels may be occasionally modified to the extent necessary to comply with the minimum downstream releases required by Article 408. In summary, the licensee proposes to maintain the upper reservoir level of 439 feet msl for two additional months through November 1, and to attain the low reservoir level of 434.5 feet msl by January 15 instead of February 1. The licensee states that these proposed changes to the operating rule curve would allow greater recreational access to the lake during the fall and, in the winter, allow additional time to complete maintenance work which requires lower water levels.

l. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

o. Agency Comments: Federal, State, and local agencies are invited to file comments on the described application. A copy of the application may be obtained by agencies directly from the applicant. If an agency does not file comments within the time specified for filing comments, it will be presumed to have no comments. One copy of an agency's comments must also be sent to the Applicant's representatives.

Kimberly D. Bose,
Secretary.

[FR Doc. 2010-6982 Filed 3-29-10; 8:45 am]

BILLING CODE 6717-01-P